DEPARTMENT OF TRANSPORTATION

National Highway Traffic Safety Administration

[Docket No. NHTSA 2001-7291 Notice 2]

General Motors Corporation; Denial of Application for Determination of Inconsequential Noncompliance

General Motors Corporation (GM) has determined that certain 1996-99 Model Year Chevrolet Astro and GMC Safari vans failed to comply with the requirements of 49 CFR 571.208, Federal Motor Vehicle Safety Standard (FMVSS) No. 208 “Occupant Crash Protection,” and filed an appropriate report pursuant to 49 CFR part 573, “Defect and Noncompliance Information Reports.” GM also applied to be exempted from the notification and remedy requirements of 49 U.S.C. 30118-30120 on the basis that the noncompliance is inconsequential to motor vehicle safety. See 49 U.S.C. 30118(d) and 30120(h).

Notice of receipt of the application was published on May 26, 2000, and an opportunity afforded for comment (65 FR 34248). This notice denies the application.

The report submitted by GM states that the company has built vans in which the required audible seat belt signal on some 1996-99 Model Year Chevrolet Astro and GMC Safari vans may operate for less than the 4 to 8 seconds time required by FMVSS No. 208. GM believes that the subject vehicles comply with the visual seat belt warning requirement by displaying a continuous warning light for approximately the first 20 seconds and then a flashing light for approximately 55 seconds if the driver belt is not buckled. The subject vehicles, therefore, provide a visual warning signal that exceeds the 60 second duration requirement of S7.3. GM claimed that the 75 seconds for the visual signal provides a considerable enhancement over the 4 to 8 second audio requirement.

GM believes that the subject vehicles provide an enhanced visual seat belt warning indicator to remind the driver to wear a seat belt and that the noncompliance with S7.3 in FMVSS No. 208 is therefore inconsequential to motor vehicle safety. On this basis, GM requests that the noncompliant vehicles be exempted from the notification and remedy provisions of the Safety Act.

According to GM, from June 1996 though January 1999, the company manufactured approximately 461,651 1996, 1997, 1998 and 1999 model year Chevrolet Astro and GMC Safari vans with an audible seat belt warning system that may, in a random manner (1) operate properly, (2) terminate the audible signal in less than the minimum 4 second requirement, or (3) not operate at all.

GM stated that the noncompliance results from a transient signal being generated at the seat belt switch input to the audible signal module when the ignition switch is turned to “start” and the seat belt latch mechanism is not fastened. The module may interpret this transient signal input as the seat belt latch mechanism being fastened and thereby terminate the audible tone. This condition is caused by a ground voltage difference between the seat belt switch and the signal module, thus creating a transient signal that the module was not designed to filter. At the time the subject module and associated wiring harness were developed, GM truck engineering did not have a formal requirement for electrical grounding and module input filtering. GM began using a new module and wiring harness in January 1999 that changed this condition.

No comments were received on the application.

The performance of seat belts in saving lives and reducing of injuries of vehicle occupants in crashes of all severities has been adequately demonstrated for years. The purpose of requiring both a visual and audible warning system is to remind vehicle occupants to fasten their seat belts. Studies reviewed by NHTSA indicate that a sequential logic system which incorporates a visible reminder light of continuous duration and a 4 to 8 second audible reminder could produce higher seat belt usage rates. In cases in which the audible signal does not operate properly or at all, drivers may not be adequately reminded to fasten their seat belts.

NHTSA will not attempt to evaluate GM's claim that a visual seat belt warning displaying a continuous warning light for 75 seconds is more effective than the 4 to 8 second audio requirement. GM has not referenced any studies that examine whether extension of the time in which the warning light operates results in a more effective reminder. In any event, if GM believes that to be the case, it can request the agency to amend FMVSS No. 208.

In consideration of the foregoing, it is hereby found that the applicant has failed to meet its burden of persuasion that the noncompliance herein described is inconsequential to safety, and its application is denied.

(49 U.S.C. 30118, 30120; delegations of authority at 49 CFR 1.50 and 49 CFR 501.8)

Issued on: April 3, 2001.
Stephen R. Kratzke,
Associate Administrator for Safety Performance Standards.

[FR Doc. 01-8637 Filed 4-6-01; 8:45 am]

BILLING CODE 4910-59-P